DEPARTMENT OF VETERANS AFFAIRS

Veterans' Advisory Committee on Education, Notice of Meeting

The Department of Veterans Affairs (VA) gives notice under the Federal Advisory Committee Act, 5 U.S.C. 10, that the Veterans' Advisory Committee on Education (“Committee”) will meet on June 5-June 7, 2023 at 1800 G Street NW, Conference Room 542, Washington, DC. The meeting sessions will begin and end as follows:

Dates | Times
June 5, 2023 | 1 p.m. to 5 p.m. Eastern Standard Time (EST).
June 6, 2023 | 10 a.m. to 5 p.m. EST.
June 7, 2023 | 10 a.m. to 5 p.m. EST.

All sessions are open to the public.

The purpose of the Committee is to advise the Secretary of Veterans Affairs on the administration of education and training programs for Veterans, Servicepersons, Reservists and Dependents of Veterans including programs under Chapters 30, 32, 33, 35 and 36 of title 38, and Chapter 1606 of title 10, U.S.C.

During the meeting sessions, the Committee will hear reports from three subcommittees (Modernization, Veteran Vocational Education and Training Programs, and Distance Learning) and receive other updates and briefings that they will use for potential 2023 recommendations.

Interested persons may attend in person at 1800 G St. NW, Washington, DC or virtually via Microsoft Teams. Please email EDUSTAENG.VBAVACO@va.gov prior to June 2, 2023 if you wish to attend or you can dial-in by phone (for audio only) at 1-872-701-0185 (Toll-Free) using the Conference ID: 902 118 813#.

Time will be allotted for receiving oral presentations from the public and individuals wishing to share information with the Committee may submit written statements for the Committee's review to Mr. Joseph Maltby, Designated Federal Official, Department of Veterans Affairs, by email at EDUSTAENG.VBAVACO@va.gov. Advance comments will be accepted until close of business on Friday, June 2, 2023. In the communication, the writers must identify themselves and state the organization or association they represent for inclusion in the official record.

Dated: April 11, 2023.
Jelessa M. Burney,
Federal Advisory Committee Management Officer.

[FR Doc. 2023-07905 Filed 4-13-23; 8:45 am]

BILLING CODE 8320-01-P